FEDERAL COMMUNICATIONS COMMISSION

[FR ID 305665]

SES Performance Review Board

AGENCY: Federal Communications Commission.

ACTION: Notice.

As required by the Civil Service Reform Act of 1978 (Pub. L. 95-454), Chairman Brendan Carr has appointed the following executives to the Senior Executive Service (SES) Performance Review Board (PRB):

Scott Delacourt

Jacob Lewis

Mark Stephens

Federal Communications Commission.
Marlene Dortch,
Secretary.

[FR Doc. 2025-14252 Filed 7-28-25; 8:45 am]

BILLING CODE 6712-01-P